DEPARTMENT OF COMMERCE

National Oceanic and Atmospheric Administration

RIN 0648-BB71

Marine Mammals: Alaska Harbor Seal Habitats

AGENCY: National Marine Fisheries Service (NMFS), National Oceanic and Atmospheric Administration (NOAA), Commerce.

ACTION: Notice of public workshops.

SUMMARY: NMFS will hold two public workshops to solicit input from stakeholders regarding our advance notice of proposed rulemaking (ANPR) on potential management measures to protect glacially-associated harbor seal habitats in Alaska (78 FR 15669; March 12, 2013). During the workshops NMFS will present information regarding harbor seal habitat usage and available research on the effects of vessel disturbance. NMFS will seek input as to whether management measures are needed, and if so, what types of measures should be considered.

DATES: We will conduct public workshops on the harbor seal ANPR on the specific dates listed below:

1. April 22, 2013, from 2 p.m. to 4 p.m. Alaska Daylight Time (ADT) in Juneau, Alaska.

2. April 23, 2013, from 2 p.m. to 4 p.m. (ADT) in Yakutat, Alaska.

ADDRESSES: The workshop locations are:

1. Juneau, AK—Centennial Hall, Hickel Room, 101 Egan Drive, Juneau, AK 99801.

2. Yakutat, AK—ANB Hall, 522 Max Italio Dr., Yakutat, AK 99689.

You may submit written comments, identified by FDMS Docket Number NOAA-NMFS-2011-0284, before May 12, 2013 by any one of the following methods:

• Electronic Submissions: Submit all electronic public comments via the Federal eRulemaking Portal Web site at http://www.regulations.gov. To submit comments via the e-Rulemaking Portal, first click the “Submit a Comment” icon, then enter NOAA-NMFS-2011-0284 in the keyword search. Locate the document you wish to comment on from the resulting list and click on the “Submit a Comment” icon on the right of that line.

• Mail: Address written comments to Jon Kurland, Assistant Regional Administrator, Protected Resources Division, Alaska Region NMFS, Attn: Ellen Sebastian. Mail comments to P.O. Box 21668, Juneau, AK 99802-1668.

• Fax: Address written comments to Jon Kurland, Assistant Regional Administrator, Protected Resources Division, Alaska Region NMFS, Attn: Ellen Sebastian. Fax comments to 907-586-7557.

• Hand delivery to the Federal Building: Address written comments to Jon Kurland, Assistant Regional Administrator, Protected Resources Division, Alaska Region NMFS, Attn: Ellen Sebastian. Deliver comments to 709 West 9th Street, Room 420A, Juneau, AK.

• Hand delivery to NMFS at one of the public workshops listed in this notice.

Comments must be submitted by one of the above methods to ensure that the comments are received, documented, and considered by NMFS. Comments sent by any other method, to any other address or individual, or received after the end of the comment period, may not be considered.

All comments received are a part of the public record and will generally be posted to http://www.regulations.gov without change. All Personal Identifying Information (e.g., name, address) voluntarily submitted by the commenter will be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

Electronic copies of the ANPR may be obtained from http://www.regulations.gov or from the NMFS Alaska Region Web site at http://alaskafisheries.noaa.gov.

FOR FURTHER INFORMATION CONTACT: Alicia Bishop, NMFS Alaska Regional Office, (907) 586-7224; or Shannon Bettridge, NMFS Office of Protected Resources, (301) 427-8402.

SUPPLEMENTARY INFORMATION: On March 12, 2013, NMFS published an ANPR in the Federal Register (78 FR 15669) to consider whether to propose regulations to protect glacially-associated harbor seal habitats in Alaska used for pupping, nursing, resting, and molting, and to limit vessel disturbance to harbor seals in those habitats. We will conduct two public workshops to inform interested parties of the ANPR and receive written comments.

In response to the ANPR, and at the workshops, we are seeking information and comments concerning: (1) The advisability of and need for regulations; (2) the geographic scope and time horizon of regulations; (3) management options for regulating vessel interactions with harbor seals, including but not limited to the options listed in this notice; (4) scientific and commercial information regarding the effects of vessels on harbor seals and their habitat; (5) information regarding potential economic effects of regulating vessel interactions; (6) the feasibility of any management measure or regulation (for example, navigational safety or security concerns); and (7) any additional relevant information that NMFS should consider should it undertake rulemaking.

Oral statements will not be recorded at the workshop. We encourage interested people, groups, and organizations to provide a written copy of their statement and present it to us at the workshop. Blank “comment sheets” will be provided at the public meetings for those without prepared written comments. In addition, we encourage the submission of comments in accordance with the instructions the ANPR. If attendance at the public workshops is large, the time allotted for individual oral comments may be limited. There are no limits on the length of written comments submitted to us. There is no need to register for these workshops.

Dated: April 5, 2013.
Helen M. Golde,
Acting Director, Office of Protected Resources, National Marine Fisheries Service.

[FR Doc. 2013-08493 Filed 4-10-13; 8:45 am]

BILLING CODE 3510-22-P